DEPARTMENT OF HOMELAND SECURITY

Transportation Security Administration

Revision of Agency Information Collection Activity Under OMB Review: TSA Customer Comment Tools

AGENCY: Transportation Security Administration, Homeland Security (DHS).

ACTION: 30-Day notice.

SUMMARY: This notice announces that the Transportation Security Administration (TSA) has forwarded the Information Collection Request (ICR), Office of Management and Budget (OMB) control number 1652-0030, abstracted below to OMB for a revision of the currently approved collection under the Paperwork Reduction Act (PRA). The ICR describes the nature of the information collection and its expected burden. This collection allows customers to provide feedback to TSA about their experiences with TSA's processes and procedures, to request information or request assistance at the TSA checkpoint, and to report security threats and vulnerabilities.

DATES: Send your comments by August 12, 2021. A comment to OMB is most effective if OMB receives it within 30 days of publication.

ADDRESSES: Written comments and recommendations for the proposed information collection should be sent within 30 days of publication of this notice to www.reginfo.gov/public/do/PRAMain. Find this particular information collection by selecting “Currently under Review—Open for Public Comments” or by using the find function.

FOR FURTHER INFORMATION CONTACT: Christina A. Walsh, TSA PRA Officer, Information Technology (IT), TSA-11, Transportation Security Administration, 6595 Springfield Center Drive, Springfield, VA 20598-6011; telephone (571) 227-2062; email TSAPRA@dhs.gov.

SUPPLEMENTARY INFORMATION: TSA published a Federal Register notice, with a 60-day comment period soliciting comments, of the following collection of information on April 13, 2021 (86 FR 19276).

Comments Invited

In accordance with the Paperwork Reduction Act of 1995 (44 U.S.C. 3501 et seq.), an agency may not conduct or sponsor, and a person is not required to respond to, a collection of information unless it displays a valid OMB control number. The ICR documentation will be made available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: TSA Customer Comment Tools.

Type of Request: Revision of a currently approved collection.

OMB Control Number: 1652-0030.

Forms(s): NA.

Affected Public: Travelling public.

Abstract: The TSA Contact Center (TCC) continues to serve as the main portal of communication for the traveling public. The public may contact the TCC via email or phone to request information, file a complaint—general or Civil Rights and Liberties, compliment, or provide general feedback. With over one million contacts per year, it is crucial for TSA to have the ability to capture this information. TSA's online submission forms are readily available from the Customer Service portion of tsa.gov. The online forms are easy to use and offer several dropdown menu choices to reduce the burden on the public and increase the quality of data for TSA. Currently, there are four options for the online forms: Complaint and Compliment, Request for Assistance, Request for Information, and Security Issues. The online forms are easy to use and offer several dropdown menu choices to reduce the burden on the public and increase the quality of data for TSA. TCC provides a receipt to any person who submits an online form.

TSA is revising the information collection, moving from four online forms to six electronic forms. The online form Complaint and Compliment has been broken into two separate distinct online forms. TSA PreCheck™ has been pulled out of the drop down menu of Complaint and given its own online form. Request for Assistance online form has been renamed TSA Cares. The 6 online forms are as follows:

• Complaint—passengers may provide a complaint regarding their experiences with TSA security procedures. Passengers may also use this form to file Disability or Civil Rights and Civil Liberties complaints.

• TSA PreCheck—passengers may share concerns about not receiving TSA PreCheck on their boarding pass or other concerns.

• Compliment—passengers may share how TSA exceeded their expectations.

• Request for Information—passengers may submit an inquiry about TSA policies and procedures, such as traveling with medical conditions, prohibited & permitted items, security screening and more.

• TSA Cares—passengers may request assistance through the TSA screening checkpoint.

• Security Issue—passengers may identify and report suspicious activities and threats. The TCC provides a receipt to any person who submits an electronic form or email to TSA as required by 49 CFR 1503.3(a).

Also, TSA is changing the name of OMB control number 1652-0030 from “TSA Customer Comment Card” to “TSA Customer Comment Tools” to more accurately represent the information collection. In addition, TSA is making non-substantive changes to the paper comment card, updating the appearance—font, TSA insignia and spacing.

Number of Respondents: An estimated 88,352 respondents annually.

Estimated Annual Burden Hours: An estimated 7,518 hours annually.

Christina A. Walsh,
TSA Paperwork Reduction Act Officer, Information Technology.

[FR Doc. 2021-14886 Filed 7-12-21; 8:45 am]

BILLING CODE 9110-05-P